DEPARTMENT OF COMMERCE

National Oceanic and Atmospheric Administration

[I.D. 082004A]

Proposed Information Collection; Comment Request; Scup Gear Restricted Area (GRA) Access Program Authorization

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before October 25, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Sarah McLaughlin, National Marine Fisheries Service, One Blackburn Drive, Gloucester, MA 01930.

SUPPLEMENTARY INFORMATION:

I. Abstract

The regulations at 50 CFR 648.122 require that vessels that are subject to the provisions of the Southern and Northern Gear Restricted Areas may fish for, or possess, non-exempt species (Loligo squid, black sea bass and silver hake (whiting)) using trawl nets. The nets must have a minimum mesh size less than 4.5 inches (diamond mesh), provided that the following requirements are met:

1. The vessel carries on board all required Federal fishery permits and a Scup GRA Exemption Program Authorization issued by the Regional Administrator, Northeast Region;

2. The vessel carries a NMFS-certified observer on board if any portion of the trip will be, or is, in a GRA; and,

3. The vessel fishes in a GRA only with a specially modified trawl net that has an escapement extension consisting of a minimum of 45 meshes of 5.5-inch (13.97-cm) square mesh that is positioned behind the body of the net and in front of the codend.

II. Method of Collection

To enroll in the Scup GRA Exemption Program, vessel owners are required to call the National Marine Fisheries Service Northeast Regional Office (NERO) Permits Office at (978) 281-9370, and provide the vessel name, permit number, mailing address, and the GRA (i.e., Southern or Northern) for which exemption is requested. The vessel must carry the Letter of Authorization (LOA) for the Scup GRA Exemption Program issued by the Regional Administrator. In addition, each vessel must obtain, pay for, and carry on board a NMFS-certified observer when fishing in a Scup GRA using the exempted gear. Vessel owners who enroll in the Program and request an LOA are required to make arrangements to obtain an observer for any trip that will be in a GRA by calling the NOAA-certified observer contractor a minimum of 5 business days in advance of the start of the trip, and providing the following information: Vessel name and permit number; captain or contact name and phone number; port of departure; and date of departure.

III. Data

OMB Number: 0648-0469.

Form Number: None.

Type of Review: Regular submission.

Affected Public: Individuals or households; and business or other for-profit organizations.

Estimated Number of Respondents: 72.

Estimated Time Per Response: 2 minutes.

Estimated Total Annual Burden Hours: 890.

Estimated Total Annual Cost to Public: $482.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 19, 2004,
Gwellnar Banks,
Management Analyst, Office of the Chief Information Officer.

[FR Doc. 04-19560 Filed 8-25-04; 8:45 am]

BILLING CODE 3510-22-S